DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before July 1, 2004.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments. All comments received, including names and addresses, will become part of the official administrative record and may be made available to the public.

FOR FURTHER INFORMATION CONTACT: Chief, Endangered Species Division, (505) 248-6922.

SUPPLEMENTARY INFORMATION:

Permit No. TE-084788

Applicant: Katherine Brodhead, Sandia Park, New Mexico.

Applicant requests a new permit for research and recovery purposes to conduct presence/absence surveys for southwestern willow flycatcher (Empidonax traillii extimus) within Arizona and New Mexico.

Permit No. TE-084473

Applicant: Pueblo of Santa Ana, Santa Ana Pueblo, New Mexico.

Applicant requests a new permit for research and recovery purposes conduct presence/absence surveys for southwestern willow flycatcher (Empidonax traillii extimus) within New Mexico.

Permit No. TE-841795

Applicant: Marc Baker, Chino Valley, Arizona.

Applicant requests an amendment to an exiting permit to allow collection of Pima pineapple cactus (Coryphantha scheeri var. robustispina) within Arizona.

Permit No. TE-085387

Applicant: Perrianne Houghton, Rio Rancho, New Mexico.

Applicant requests a new permit for research and recovery purposes to conduct presence/absence surveys and nest monitoring for southwestern willow flycatcher (Empidonax traillii extimus) within New Mexico.

Permit No. TE-085014

Applicant: Tonto National Monument, Roosevelt, Arizona.

Applicant requests a new permit for research and recovery purposes to conduct presence/absence surveys for southwestern willow flycatcher (Empidonax traillii extimus) and cactus ferruginous pygmy-owl (Glaucidium brasilianum cactorum) within Arizona.

Permit No. TE-085015

Applicant: Martin Lawrence, Wickenburg, Arizona.

Applicant requests a new permit for research and recovery purposes to conduct presence/absence surveys for southwestern willow flycatcher (Empidonax traillii extimus) within Arizona.

Permit No. TE-084471

Applicant: A & M Engineering and Environmental Services, Inc., Tulsa, Oklahoma.

Applicant requests a new permit for research and recovery purposes to conduct presence/absence surveys and translocate American burying beetles (Nicrophorus americanus) within Arkansas, Kansas, and Oklahoma.

Permit No. TE-084327

Applicant: Thomas Newman, Tucson, Arizona.

Applicant requests a new permit for research and recovery purposes to conduct presence/absence surveys for the following species within Arizona: black-footed ferret (Mustela nigripes), Mount Graham red squirrel (Tamiasciurus hudsonicus grahamensis), and northern aplomado falcon (Falco femoralis septentrionalis).

Authority: 16 U.S.C. 1531, et seq.

Dated: May 13, 2004.
Bryan Arroyo,
Assistant Regional Director, Ecological Services, Region 2, Albuquerque, New Mexico.

[FR Doc. 04-12336 Filed 5-28-04; 8:45 am]

BILLING CODE 4310-55-P